DEPARTMENT OF ENERGY

Federal Energy Regulatory Commission

[Project Nos. 14298-000, 14299-000, 14301-000]

SV Hydro, LLC, Coffeeville, LLC, FFP Project 99, LLC; Notice Announcing Filing Priority for Preliminary Permit Applications

On February 28, 2012, the Commission held a drawing to determine priority between three competing preliminary permit applications with identical filing times. In the event that the Commission concludes that none of the applicants' plans are better adapted than the other to develop, conserve, and utilize in the public interest the water resources of the region at issue, the priority established by this drawing will serve as the tiebreaker. Based on the drawing, the order of priority is as follows:

1. FFP Project 99, LLC: Project No. 14301-000.

2. SV Hydro, LLC: Project No. 14298-000.

3. Coffeeville, LLC: Project No. 14299-000.

Dated: February 29, 2012.
Nathaniel J. Davis, Sr.,
Deputy Secretary.

[FR Doc. 2012-5337 Filed 3-5-12; 8:45 am]

BILLING CODE 6717-01-P